AGENCY FOR INTERNATIONAL DEVELOPMENT

Notice of Public Information Collection; Requirements Submitted to OMB for Review; Partner Information Form

AGENCY: U.S. Agency for International Development.

ACTION: 30-Day notice.

SUMMARY: Under the provisions of section 3507(a)(1)(D) of the Paperwork Reduction Act of 1995, the U.S. Agency for International Development (USAID) has submitted to the Office of Management and Budget (OMB) a request for review and approval of the information collection listed below. This proposed information collection was previously published in the Federal Register on July 17, 2015, 80 FR 42467, and allowed 60-days for public comment. USAID's responses to comments received during the 60-day comment period can be found at: www.usaid.gov/work-usaid/partner-vetting-system.

DATES: Comments Due Date: February 29, 2016.

ADDRESSES: Written comments should be identified as Paperwork Reduction Act Comments, OMB Control Number 0412-0577. These comments should be directed to the Office of Management and Budget, Office of Information and Regulatory Affairs, Desk Officer for USAID, by email at OIRA_SUBMISSION@OMB.E0P.GOV; by fax at (202) 395-6974; or by mail to Room 10235, 725 17th Street NW., Washington, DC 20503.

FOR FURTHER INFORMATION CONTACT: Manuel A. Avendano, Management and Policy Analyst, USAID, RRB, 1300 Pennsylvania Avenue NW., Washington, DC 20523; (202) 7125-5785 or at mavendano@usaid.gov. Copies of the revised Partner Information Form (PIF) may be obtained from Mr. Avendano.

SUPPLEMENTARY INFORMATION:

OMB Number: 200705-0412-003.

Form Number: 0412-0577.

Overview of This Information Collection

(1) Type of Information Collection: Reinstatement Collection.

(2) Title of the Form/Collection: Partner Information Form.

(3) Agency form number: AID500-13.

(4) Affected public who will be asked or required to respond, as well as a brief abstract: The U.S. Agency for International Development intends to continue collection of information from individuals and/or officers of for-profit and not-for-profit non-governmental organizations (NG0s) who apply for USAID contracts, grants, cooperative agreements, other funding from USAID, or who apply for registration with USAID as Private and Voluntary Organizations. The collection of this information will be used to conduct screening to help mitigate the risk that USAID funds or USAID-funded activities inadvertently provide support to entities or individuals associated with terrorism. Screening programs are being conducted in West Bank/Gaza, Afghanistan, and pilot countries under the Partner Vetting System Pilot Program (Guatemala, Kenya, Lebanon, Philippines, and Ukraine).

(5) An estimate of the total number of respondents and the amount of time estimated for an average respondent to respond: USAID estimates that for pilot and non-pilot vetting programs, 3,800 PIFs will be completed in a calendar year and the additional requirements for partner vetting will add 1.25 hours (75 minutes) to an USAID acquisition or assistance award application.

(6) An estimate of the total public burden (in hours) associated with the collection: The total estimated annual hour burden associated with this collection is 4,750 hours (3,800 forms multiplied by 75 minutes per form, divided by 60 minutes).

(7) An estimate of the total public burden (in cost) associated with the collection: The estimated total annual cost burden associated with this collection of information is $217,740 (3,800 forms multiplied by $57.30 per submission cost)

Dated: January 14, 2016.
Lynn P. Winston,
Chief, Bureau for Management, Office of Management Services, Information and Records Division, U.S. Agency for International Development.

[FR Doc. 2016-01228 Filed 1-27-16; 8:45 am]

BILLING CODE 6116-01-M